DEPARTMENT OF COMMERCE

National Oceanic and Atmospheric Administration

50 CFR Part 660

[Docket No. 030820209-3209-01; I.D. 081203B]

RIN 0648-AR37

Fisheries off West Coast States and in the Western Pacific; Western Pacific Bottomfish Fisheries; Guam and Commonwealth of the Northern Mariana Islands; Control Date

AGENCY: National Marine Fisheries Service (NMFS), National Oceanic and Atmospheric Administration (NOAA), Commerce.

ACTION: Advance notice of proposed rulemaking; request for comments.

SUMMARY: NMFS announces that persons who enter the bottomfish fisheries in waters of the U.S. exclusive economic zone (EEZ) around Guam and the Commonwealth of the Northern Mariana Islands (CNMI) after June 13, 2003, (“control date”) are not guaranteed future participation in these fisheries. This action does not commit the Council or NMFS to limit entry, or prevent any other date from being selected for eligibility to participate in the bottomfish fishery off Guam and/or CNMI. The Council or NMFS may also use other criteria to limit fishing effort or participation in a limited entry program that is developed in the future. The purpose of this action is to notify persons interested in joining these fisheries after June 13, 2003, that they may be excluded if restrictions are adopted in the future.

DATES: Comments must be submitted in writing by September 29, 2003.

ADDRESSES: Submit written comments to Kitty M. Simonds, Council Executive Director, 1164 Bishop Street, Suite 1400, Honolulu, Hawaii, 96813; or faxed to (808) 522-8226. Comments will not be accepted if submitted via E-mail or Internet.

FOR FURTHER INFORMATION CONTACT: Kitty M. Simonds at 808-522-8220.

SUPPLEMENTARY INFORMATION: On June 13, 2003, at its 118th meeting, the Council adopted a “control date” of June 13, 2003, as a notice to persons contemplating entering the fisheries for bottomfish species in the EEZ around Guam and CNMI. This action would not impose any restrictions on the public, but is intended solely to notify persons who joined or may join these fisheries after June 13, 2003, that they might be excluded if restrictions are adopted in the future under the Magnuson-Stevens Fishery Conservation and Management Act.

This control date does not commit the Council or NMFS to any particular management regime or criteria for entry into the bottomfish fisheries off Guam and/or CNMI. Fishermen are not guaranteed future participation in either or both fisheries, regardless of their level of participation before or after the control date. The Council may choose a different control date or it may choose a management regime that does not involve a limited access program. Documentation of fish landings and sales may be used to determine eligibility for participation in a limited access fishery. The Council also may choose to take no further action to control entry or access to the fishery, in which case the control date may be rescinded.

Authority: 16 U.S.C. 1801 et seq.

Dated: August 25, 2003.
Rebecca Lent,
Deputy Assistant Administrator for Regulatory Programs, National Marine Fisheries Service.

[FR Doc. 03-22040 Filed 8-27-03; 8:45 am]

BILLING CODE 3510-22-S